DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 23, 2009. Address written comments to Statutory Import Programs Staff, Room 3720, U.S. Department of Commerce, Washington, DC 20230. Applications may be examined between 8:30 a.m. and 5 p.m. at the U.S. Department of Commerce in Room 3720.

Docket Number: 08-054. Applicant: University of Wisconsin—Madison, Purchasing Services, 21 N. Park Street, Suite 6101, Madison, WI 53715-1218. Instrument: FEI Titan 80-200 Electron Microscope. Manufacturer: FEI Company, Czech Republic. Intended Use: The instrument will be used to measure the structure, composition and bonding of a wide variety of materials and phenomena, such as semiconducting and metallic glasses, superconductors including magnesium diboride, semiconductors including zinc oxide, geochemical reactions confined to natural nanopores in minerals, nanotubes of titanium dioxide and related oxides with and without loading of catalytic nanoparticles, and metal nanoparticles used as labels in cells. Application accepted by Commissioner of Customs: October 8, 2008.

Docket Number: 08-059. Applicant: Emory University, 1599 Clifton Road, 4th Floor, Atlanta, GA 30322-4250. Instrument: Electron Microscope, Model JEM-1011. Manufacturer: JEOL, Japan. Intended Use: The instrument will be used in anatomical studies to help students understand a disease such as Parkinson's. Specifically, students will be able to visualize axonal tracers after intracerebral injection, perfusion, sectioning, incubations, EM processing, embedding, ultra-thin sectioning and observation at the electron microscope level. Application accepted by Commissioner of Customs: December 16, 2008.

Docket Number: 08-060. Applicant: University of Arizona, Department of Chemistry, 1306 E. University Boulevard, Tucson, AZ 85721. Instrument: FEI Inspect S Scanning Electron Microscope. Manufacturer: FEI Company, Czech Republic. Intended Use: The instrument will be used to characterize a wide variety of materials in terms of surface morphology and chemical composition. It will also be used as the base system for an electron beam lithography module which will be used to pattern and characterize nano-scale features that represent the next generation of molecular electronic devices, and as the base system for an Energy Dispersive Spectrometer that will allow the chemical mapping at the same resolution as the SEM images. Application accepted by Commissioner of Customs: December 16, 2008.

Dated: January 27, 2009.
Chris Cassel,
Director, Statutory Import Programs Staff, Import Administration.

[FR Doc. E9-2194 Filed 1-30-09; 8:45 am]

BILLING CODE 3510-DS-P